DEPARTMENT OF TRANSPORTATION

Federal Aviation Administration

14 CFR Part 39

[Docket No. 2000-CE-35-AD; Amendment 39-12869; AD 2002-17-04]

RIN 2120-AA64

Airworthiness Directives; Ballonbau Worner GmbH Model K-630/1-Stu Manned Free Gas Balloons

AGENCY: Federal Aviation Administration, DOT.

ACTION: Final rule; request for comments.

SUMMARY: This amendment adopts a new airworthiness directive (AD) that applies to all Ballonbau Worner GmbH (Ballonbau) Model K-630/1-Stu manned free gas balloons. This AD requires you to replace the PVC tubes that cover the steelwire loops of the basket with an electrostatic conductive braided rope. This AD is the result of mandatory continuing airworthiness information (MCAI) issued by the airworthiness authority for Germany. The actions specified by this AD are intended to prevent the chance of an electrostatic charge buildup between the steelwire loops of the basket and the balloon envelope, which could result in ignition of combustible lifting gas fumes in the balloon envelope. Such a condition could lead to gas explosion and fire.

DATES: This AD becomes effective on September 30, 2002.

The Director of the Federal Register approved the incorporation by reference of certain publications listed in the regulation as of September 30, 2002.

The Federal Aviation Administration (FAA) must receive any comments on this rule on or before October 10, 2002.

ADDRESSES: Submit comments to FAA, Central Region, Office of the Regional Counsel, Attention: Rules Docket No. 2000-CE-35-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2000-CE-35-AD” in the subject line. If you send comments electronically as attached electronic files, the files must be formatted in Microsoft Word 97 for Windows or ASCII text.

You may get the service information referenced in this AD from Ballonbau Worner GmbH, Zirbelstr 57c, 86154 Augusburg, Federal Republic of Germany; telephone: ++ 49 821-421590; facsimile: ++ 49 821-419641. You may view this information at FAA, Central Region, Office of the Regional Counsel, Attention: Rules Docket No. 2000-CE-35-AD, 901 Locust, Room 506, Kansas City, Missouri 64106; or at the Office of the Federal Register, 800 North Capitol Street, NW., suite 700, Washington, DC.

FOR FURTHER INFORMATION CONTACT: Roger Chudy, Aerospace Engineer, FAA, Small Airplane Directorate, 901 Locust, Room 301, Kansas City, Missouri 64106; telephone: (816) 329-4140; facsimile: (816) 329-4090.

SUPPLEMENTARY INFORMATION:

Discussion

What Events Have Caused This AD?

The Luftfahrt-Bundesamt (LBA), which is the airworthiness authority for Germany, notified FAA that an unsafe condition may exist on all Ballonbau Model K-630/1-Stu manned free gas balloons. The LBA reports the potential of an electrostatic build up between the steelwire loops of the basket and the balloon envelope.

Ballonbau has designed an electrostatic conductive braided rope to address this condition.

What Are the Consequences if the Condition Is Not Corrected?

This condition, if not prevented, could result in ignition of combustible lifting gas fumes in the balloon envelope. Such a condition could lead to gas explosion and fire.

Is There Service Information That Applies to This Subject?

Ballonbau has issued Technical Note Nr. 8002-13, dated January 14, 2000.

This service information includes procedures for removing the PVC tubes that cover the steelwire loops of the basket and installing an electrostatic conductive braided rope.

What Action Did the LBA Take?

The LBA classified this service bulletin as mandatory and issued German AD Number 2000-063, dated February 24, 2000, in order to ensure the continued airworthiness of these balloons in Germany.

Was This in Accordance With the Bilateral Airworthiness Agreement?

This balloon model is manufactured in Germany and is type certificated for operation in the United States under the provisions of section 21.29 of the Federal Aviation Regulations (14 CFR 21.29) and the applicable bilateral airworthiness agreement.

Pursuant to this bilateral airworthiness agreement, the LBA has kept us informed of the situation described above.

The FAA's Determination and an Explanation of the Provisions of This AD

What Has FAA Decided?

The FAA has examined the findings of the LBA; reviewed all available information, including the service information referenced above; and determined that:

—The unsafe condition referenced in this document exists or could develop on other Ballonbau Model K-630/1-Stu manned free gas balloons of the same type design;

—The actions specified in the previously-referenced service information (as specified in this AD) should be accomplished on the affected balloons; and

—AD action should be taken in order to correct this unsafe condition.

What Does This AD Require?

This AD requires you to incorporate the actions in the previously-referenced service bulletin.

Will I Have the Opportunity To Comment Prior to the Issuance of the Rule?

Since this AD action does not affect any balloon that is currently on the U.S. register, it has no adverse economic impact and imposes no additional burden on any person. Therefore, notice and opportunity for public prior comment are unnecessary and the amendment may be made effective in less than 30 days after publication in the Federal Register.

None of the Ballonbau Model K-630/1-Stu manned free gas balloons affected by this action are on the U.S. Register. All balloons included in the applicability of this rule currently are operated by non-U.S. operators under foreign registry; therefore, they are not directly affected by this AD action. However, the FAA considers this rule necessary to ensure that the unsafe condition is addressed in the event that any of these subject balloons are imported and placed on the U.S. Register.

Comments Invited

How Do I Comment on This AD?

Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of this AD action and determining whether we need to take additional rulemaking action.

Are There Any Specific Portions of This AD I Should Pay Attention to?

We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How Can I Be Sure FAA Receives My Comment?

If you want us to acknowledge the receipt of your comments, you must include a self-addressed, stamped postcard. On the postcard, write “Comments to Docket No. 2000-CE-35-AD.” We will date stamp and mail the postcard back to you.

Compliance Time of this AD

What Is the Compliance Time of This AD?

The compliance time of this AD is within the next 30 days after the effective date of this AD.

Why Is the Compliance Time Presented in Calendar Time Instead of Hours Time-In-Service (TIS)?

This unsafe condition is not a result of the number of times the balloon is operated. The chance of this situation occurring is the same for a balloon with 10 hours time-in-service (TIS) as it would be for a balloon with 500 hours TIS. For this reason, the FAA has determined that a compliance based on calendar time should be utilized in this AD in order to assure that the unsafe condition is addressed on all balloons in a reasonable time period.

Regulatory Impact

Does This AD Impact Various Entities?

These regulations will not have a substantial direct effect on the States, on the relationship between the national Government and the States, or on the distribution of power and responsibilities among the various levels of government. Therefore, FAA has determined that this final rule does not have federalism implications under Executive Order 13132.

Does This AD Involve a Significant Rule or Regulatory Action?

We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2002-17-04 Ballonbau Worner Gmbh: Amendment 39-12869; Docket No. 2000-CE-35-AD

(a) What balloons are affected by this AD? This AD affects Model K-630/1-Stu manned free gas balloons, all serial numbers, that are certificated in any category.

(b) Who must comply with this AD? Anyone who wishes to operate any of the balloons identified in paragraph (a) of this AD must comply with this AD.

(c) What problem does this AD address? The actions specified by this AD are intended to prevent the chance of an electrostatic charge buildup between the steelwire loops of the basket and the balloon envelope, which could result in ignition of combustible lifting gas fumes in the balloon envelope. Such a condition could lead to gas explosion and fire.

(d) What actions must I accomplish to address this problem? To address this problem, you must accomplish the following:

Actions | Compliance | Procedures
(1) Remove the PVC tubes on the steelwire loops of the basket and install an electrostatic conductive braided rope | Within the next 30 days after September 30, 2002 (the effective date of this AD) | In accordance with Ballonbau Worner GmbH Technical Note Nr. 8002-13, dated January 14, 2000.
(2) Do not install PVC tubes on the steelwire loops of the basket | As of September 30, 2002 (the effective date of this AD) | Not applicable.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each balloon identified in paragraph (a) of this AD, regardless of whether it has been modified, altered, or repaired in the area subject to the requirements of this AD. For balloons that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roger Chudy, Aerospace Engineer, FAA, Small Airplane Directorate, 901 Locust, Room 301, Kansas City, Missouri 64106; telephone: (816) 329-4140; facsimile: (816) 329-4090.

(g) What if I need to fly the balloon to another location to comply with this AD? The FAA can issue a special flight permit under sections 21.197 and 21.199 of the Federal Aviation Regulations (14 CFR 21.197 and 21.199) to operate your balloon to a location where you can accomplish the requirements of this AD.

(h) Are any service bulletins incorporated into this AD by reference? Actions required by this AD must be done in accordance with Ballonbau Worner GmbH Technical Note Nr. 8002-13, dated January 14, 2000. The Director of the Federal Register approved this incorporation by reference under 5 U.S.C. 552(a) and 1 CFR part 51. You can get copies from Ballonbau Worner GmbH, Zirbelstr 57c, 86154 Augusburg, Federal Republic of Germany; telephone: ++ 49 821-421590; facsimile: ++ 49 821-419641. You may view copies at FAA, Central Region, Office of the Regional Counsel, 901 Locust, Room 506, Kansas City, Missouri, or at the Office of the Federal Register, 800 North Capitol Street, NW., suite 700, Washington, DC.

Note 2: The subject of this AD is addressed in German AD 2000-063, dated February 24, 2000.

(i) When does this amendment become effective? This amendment becomes effective on September 30, 2002.

Issued in Kansas City, Missouri, on August 21, 2002.
David R. Showers,
Acting Manager, Small Airplane Directorate, Aircraft Certification Service.

[FR Doc. 02-22128 Filed 8-29-02; 8:45 am]

BILLING CODE 4910-13-P